DEPARTMENT OF JUSTICE

Notice of Lodging of Consent Decree Under the Comprehensive Environmental Response, Compensation, and Liability Act

Consistent with Section 122 of the Comprehensive Environmental Response, Compensation, and Liability Act of 1980, as amended (“CERCLA”), 42 U.S.C. 9622(d), and 28 CFR 50.7, notice is hereby given that on July 16, 2010, the United States lodged a Consent Decree with 163 defendants (each of which is identified in the proposed Decree) in United States of America v. Alcoa Inc., et al, Civil No. 2:10-cv-05051-GW (PLAx) (C.D. Cal.), with respect to the Omega Chemical Superfund Site, located in Whittier, Los Angeles County, California (the “Site”).

On July 9, 2010, Plaintiff United States of America (“United States”), on behalf of the United States Environmental Protection Agency (“EPA”) filed a complaint in this matter pursuant to CERCLA Section 107, 42 U.S.C. 9607, seeking recovery of environmental response costs incurred by EPA related to the release or threatened release or disposal of hazardous substances at or from the Site.

Under the proposed Consent Decree, the defendants in the action will implement the Operable Unit One remedy, addressing soil contamination at the Site, and pay $1.5 million towards EPA's unrecovered past response costs. In exchange, the proposed Consent Decree provides a covenant not to sue and contribution protection with respect to the Work, Past Response Costs and Future Response Costs as defined in the proposed Consent Decree.

The Department of Justice will receive for a period of thirty (30) days from the date of this publication comments relating to the Consent Decree. Comments should be addressed to the Acting Assistant Attorney General, Environment and Natural Resources Division, and either e-mailed to pubcomment-ees.enrd@usdoj.gov or mailed to P.O. Box 7611, U.S. Department of Justice, Washington, DC 20044-7611, and should refer to United States of America v. Alcoa Inc., et al, Civil No. 2:10-cv-05051-GW (PLAx) (DOJ Ref. No. 90-11-3-10068). The Consent Decree may be examined at U.S. Environmental Protection Agency, Office of Regional Counsel, EPA Region 9, 75 Hawthorne Street, San Francisco, CA 94105 (contact Stephen Berninger, (415) 972-3909). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. Alcoa Inc., et al, Civil No. 2:10-cv-05051-GW (PLAx) (DOJ Ref. No. 90-11-3-10068), and enclose a check in the amount of $191.50 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-17814 Filed 7-20-10; 8:45 am]

BILLING CODE 4410-15-P